DEPARTMENT OF HEALTH AND HUMAN SERVICES

2nd NVAC Workshop on Strengthening the Supply of Vaccines in the U.S.

AGENCY: Department of Health and Human Services, Office of the Secretary.

ACTION: Notice.

SUMMARY: The Department of Health and Human Services (DHHS) is hereby giving notice that the National Vaccine Program Office is sponsoring the “2nd NVAC Workshop on Strengthening the Supply of Vaccines in the U.S.” The purpose of this workshop is to bring stakeholders together to: Develop a progress report on the recommendations made in 2002; identify both continuing and new factors that may threaten a stable vaccine supply; and outline specific actions that can have a durable effect in resolving impediments to the consistent and reliable availability of approved vaccines. The meeting is open to the public.

DATES: The meeting will be held on January 24-25, 2005.

ADDRESSES: Wyndham City Center: 1143 New Hampshire Avenue, NW., Washington, DC 20037

FOR FURTHER INFORMATION, CONTACT: Ms. Emma English, Program Analyst, National Vaccine Program Office, Department of Health and Human Services, Room 729H Hubert H. Humphrey Building, 200 Independence Avenue, SW., Washington, DC 20201; (202) 690-5566; nvac@osophs.dhhs.gov.

SUPPLEMENTARY INFORMATION: Pursuant to Section 2101 of the Public Service Act (42 U.S.C. Section 300aa-1), the Secretary of Health and Human Services was mandated to establish the National Vaccine Program to achieve optimal prevention of human infectious diseases through immunization and to achieve optimal prevention against adverse reactions to vaccines. The National Vaccine Advisory Committee was established to provide advice and make recommendations to the Assistant Secretary for Health on matters related to the program's responsibilities.

A tentative agenda will be made available on or about January 10 for review on the NVPO Web site: http://www.hhs.gov/nvpo.

Public attendance at the meeting is limited to space available. Individuals who plan to attend and need special assistance, such as sign language interpretation or other reasonable accommodations, should notify the designated contact person. Members of the public will have the opportunity to provide comments at the meeting. Preregistration is requested for both public attendance and comment. Any individual who wishes to attend the meeting should contact Ms. English.

Dated: January 6, 2005.
Bruce Gellin,
Director, National Vaccine Program Office, Executive Secretary, National Vaccine Advisory Committee.

[FR Doc. 05-765 Filed 1-13-05; 8:45 am]

BILLING CODE 4150-28-P